DEPARTMENT OF THE INTERIOR

Bureau of Land Management

Temporary Closure of Public Lands: Broadwater County, MT

AGENCY: Bureau of Land Management, Butte Field Office, Montana.

ACTION: Temporary closure of public land to motorized vehicles in Broadwater County.

SUMMARY: Notice is hereby given that certain roads and areas are temporarily closed to all motor vehicle operation.

The closed area is within the Iron Mask Acquisition and includes all preexisting, undeveloped roads situated in the County of Broadwater, State of Montana, described as follows:

Township 7 North, Range 1 East, Principal Meridian Montana

Section 4: S½.

Section 5: S½.

Section 7: NE¼ and N½ SE¼.

Section 8: W½, W½ E½ and E½ NE¼.

Section 9: NW¼, W½ NE¼, NE¼ NE¼ and W½ SE¼ NE¼.

Section 10: N½ NW¼ lying west of the Montana Rail Link Right of Way.

Section 17: W½ W½ NE¼ and NW¼ SE¼.

Section 18: SE¼ and SW¼ NE¼.

Section 19: Gov Lot 5.

All motor vehicle use will be prohibited during this temporary closure to protect public health and safety, prevent the spread of noxious weeds and to protect cultural and historic values until such time as a resource inventory is completed and public uses can be evaluated through either the resource management planning process or a recreation plan.

Closure signs will be posted and parking areas will be delineated and signed at main entry points to this area. Maps of the closure area and information may be obtained from the Butte Field Office and the Montana Fish, Wildlife and Parks Office.

DATES: This closure will take effect immediately and may be rescinded upon adoption of a resource management or recreation plan.

FOR FURTHER INFORMATION CONTACT: Rick Hotaling, Manager, Butte Field Office, 106 North Parkmont, Butte, MT 59701. (406) 533-7600.

Discussion of the Rules: Under the authority of 43 CFR 9268.3(d)(1)(I) and 43 CFR 8364.1(a), the Bureau of Land Management will enforce the following rule on public lands within the closed area.

You must not operate motor vehicles beyond signed parking areas.

Exemptions: Persons who are exempt from these rules include: Any Federal, State, or local officer or employee in the scope of their duties and any person authorized in writing by the Bureau of Land Management.

Penalties: The authority for this closure is found under section 303(a) of the Federal Land Policy and Management Act of 1976 (43 U.S.C. 1733(a)) and 43 CFR 8360.0-7. Any person who violates this closure may be tried before a United States Magistrate and fined no more than $1,000 or imprisoned for no more than 12 months, or both. Such violations may also be subject to the enhanced fines provided for by 18 U.S.C. 3571.

Dated: August 27, 2007.
Rick Hotaling,
Field Manager, Butte Field Office.

[FR Doc. E7-19702 Filed 10-5-07; 8:45 am]

BILLING CODE 4310-$$-P